DEPARTMENT OF THE INTERIOR

Bureau of Reclamation

[15XR5173F7, RR02142500, RX.12056050.0000004]

Notice of Availability for the Final Environmental Impact Statement for the North Valley Regional Recycled Water Program

AGENCY: Bureau of Reclamation, Interior.

ACTION: Notice.

SUMMARY: The Bureau of Reclamation has made available the North Valley Regional Recycled Water Program Final Environmental Impact Statement (EIS). The North Valley Regional Recycled Water Program would provide recycled water from the Cities of Turlock and Modesto via the Central Valley Project's Delta-Mendota Canal to Del Puerto Water District for irrigation purposes, and would further provide annual supplemental water to south of the Sacramento-San Joaquin River Delta Central Valley Project Improvement Act-designated wildlife refuges.

DATES: The Bureau of Reclamation will not make a decision on the proposed action until at least 30 days after release of the Final EIS. After the 30-day waiting period, Reclamation will complete a Record of Decision (ROD). The ROD will state the action that will be implemented and will discuss all factors leading to the decision.

ADDRESSES: To request a compact disc of the Final EIS, please contact Ms. Rain Emerson, Bureau of Reclamation, 1243 N Street, Fresno, California 93721; telephone at (559) 487-5196; or via email at remerson@usbr.gov.

The Final EIS may be viewed at the Bureau of Reclamation's Web site at http://www.usbr.gov/mp/nepa/nepa_projdetails.cfm?Project_ID=17241, or at the following locations:

1. Bureau of Reclamation, South-Central California Area Office, 1243 N Street, Fresno, CA 93721.

2. Natural Resources Library, U.S. Department of the Interior, 1849 C Street NW., Main Interior Building, Washington, DC 20240-0001.

FOR FURTHER INFORMATION CONTACT: Ms. Rain Emerson, Supervisory Natural Resources Specialist, Bureau of Reclamation, via email at remerson@usbr.gov, or at (559) 487-5196; or Mr. Scott Taylor, Repayment Specialist, Bureau of Reclamation, via email at staylor@usbr.gov, or at (559) 487-5504.

SUPPLEMENTARY INFORMATION: The Del Puerto Water District (Del Puerto WD) and the Cities of Turlock and Modesto propose to implement a regional solution to address water supply shortages within Del Puerto WD's service area on the west side of the San Joaquin River in San Joaquin, Stanislaus and Merced Counties. Specifically, the project proposes to deliver up to 59,000 acre-feet per year by 2045 of recycled water produced by the cities to the Delta Mendota Canal (DMC). After introduction to the DMC, the recycled water would be conveyed to Del Puerto WD customers, to the Central Valley Project Improvement Act-designated refuges or to San Luis Reservoir for storage, depending on time of year and water demand. The Final EIS assesses the environmental effects of four alternatives being considered, which are described below. In each case (except for the No Action Alternative), operational exchanges with the Bureau of Reclamation may be necessary in order to balance seasonal supply and demand.

Under Alternative 1, the Combined Alignment Alternative, a new pipe would be constructed to deliver treated water from Turlock's facilities to the city of Modesto's pumping plant. From there, a pipeline would be constructed to deliver the combined water from both cities west, underneath the San Joaquin River. The pipeline would end at a new discharge structure on the DMC. The DMC would then be used to convey water to downstream users.

Alternative 2, the Separate Alignment Alternative, is similar to Alternative 1, except that separate pipelines would be constructed from the Modesto and Turlock water treatment facilities. There would be two crossings underneath the San Joaquin River, and two new discharge structures on the DMC.

Under Alternative 3, the Patterson Irrigation District (PID) Conveyance Alternative, Modesto and Turlock would continue to discharge their treated water to the San Joaquin River. The water would be diverted by PID at their existing intake on the river, which would need to be expanded, delivered to the DMC by way of an expanded PID conveyance system, and discharged to the DMC by way of a new outfall structure. From there, the water would be conveyed to downstream users. This alternative would require an expansion of PID's fish screen facility and a pipeline parallel to PID's main canal to accommodate increased water volume, but no new river crossings.

Alternative 4, the No Action Alternative, represents the state of the environment without implementation of any action alternatives. Modesto and Turlock would continue to discharge their treated municipal water to the San Joaquin River, and no additional water would be supplied to Del Puerto WD or the Central Valley Project Improvement Act refuges.

A Notice of Availability of the Draft EIS/EIR was published in the Federal Register on January 9, 2015 (80 FR 1432). The comment period on the Draft EIS/EIR ended on March 10, 2015. The Final EIS contains responses to all comments received and reflects comments and any additional information received during the review period.

Public Disclosure

Before including your address, phone number, email address, or other personal identifying information in any communication, you should be aware that your entire communication—including your personal identifying information—may be made publicly available at any time. While you can ask us in your communication to withhold your personal identifying information from public review, we cannot guarantee that we will be able to do so.

Dated: June 18,2015.
Pablo R. Arroyave,
Deputy Regional Director, Mid-Pacific Region.

Editorial Note: This document was received for publication by the Office of Federal Register on September 10, 2015.

[FR Doc. 2015-23138 Filed 9-14-15; 8:45 am]

BILLING CODE 4332-90-P